DEPARTMENT OF HEALTH AND HUMAN SERVICES

Centers for Disease Control and Prevention

Disease, Disability, and Injury Prevention and Control Special Emphasis Panel (SEP)—RFA-CK-21-001, US Travelers Health Research, Surveillance, Communication, and Outreach Network; RFA-CK-21-002, Emerging Infections Network—Research for Preventing, Detecting, and Managing Travelers who Acquire Infectious Diseases Abroad; and RFA-CK-21-003, Monitoring Cause-specific School Absenteeism for Estimating Community-wide Influenza and SARS-CoV-2 Transmission; Amended Notice of Meeting

Notice is hereby given of a change in the meeting of the Disease, Disability, and Injury Prevention and Control Special Emphasis Panel (SEP)—RFA-CK-21-001, US Travelers Health Research, Surveillance, Communication, and Outreach Network; RFA-CK-21-002, Emerging Infections Network—Research for Preventing, Detecting, and Managing Travelers who Acquire Infectious Diseases Abroad; and RFA-CK-21-003, Monitoring Cause-specific School Absenteeism for Estimating Community-wide Influenza and SARS-CoV-2 Transmission; February 10-11, 2021, 10:00 a.m.—5:00 p.m., EST.

Teleconference, Centers for Disease Control and Prevention, Room 1080, 8 Corporate Square Blvd., Atlanta, GA 30329 which was published in the Federal Register on November 30, 2020, Volume 85, Number 230, pages 76575-76576.

The meeting is being amended to change the meeting date to February 10, 2021. The meeting is closed to the public.

FOR FURTHER INFORMATION CONTACT: Gregory Anderson, M.S., M.P.H., Scientific Review Officer, CDC, 1600 Clifton Road, NE, Mailstop US8-1, Atlanta, Georgia 30329-4027, (404) 718-8833, ganderson@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-00280 Filed 1-8-21; 8:45 am]

BILLING CODE 4163-18-P